COMMODITY FUTURES TRADING COMMISSION

Sunshine Act Meetings

Agency Holding the Meeting: Commodity Futures Trading Commission (Commission).

Date and Time: Thursday, March 25, 2010, commencing at 9 a.m. and ending at 3 p.m.

Place: Three Lafayette Center, 1155 21st St., NW., Washington, DC, Lobby Level Hearing Room (Room 1000).

Status: Open.

Matters to be Considered: Public meeting to examine the trading of futures and options in the precious and base metals markets, and to consider Federal position limits in the precious and base metals markets and related hedge exemptions on regulated futures exchanges, derivatives transaction execution facilities and electronic trading facilities.

Contact Persons and Addresses: Written materials should be mailed to the Commodity Futures Trading Commission, Three Lafayette Center, 1155 21st Street, NW., Washington, DC, 20581, attention Office of the Secretariat; transmitted by facsimile at 202-418-5521; or transmitted electronically to metalshearing@cftc.gov.

Reference should be made to “metals position limits.” For questions, please contact Sauntia Warfield, 202-418-5084.

SUPPLEMENTARY INFORMATION: The Commission is undertaking a review of issues related to the trading of futures and options in the precious and base metals markets, and to consider Federal position limits in the precious and base metals markets and related hedge exemptions on regulated futures exchanges, derivatives transaction execution facilities and electronic trading facilities. In furtherance of that review, the Commission hereby announces that it will hold a public meeting on Thursday, March 25, 2010 from 9 a.m. to 3 p.m. at the Commission headquarters in Washington, DC. At this meeting the Commission will have oral presentations by panels of experts representing all segments of futures market participants and experts.

This meeting will generally focus on precious and base metals markets issues, including: the application of speculative position limits to address the burdens of excessive speculation in the precious and base metals markets; how such limits should be structured; how such limits should be set; the aggregation of positions across different markets; and the types of exemptions, if any, that should be permitted. The focus will be on gold, silver and copper markets.

A transcript of the meeting will be made and entered into the Commission's public comment files, which will remain open for the receipt of written comments until April 30, 2010.

Advanced Registration Requested: Advanced registration for attending the metals meeting is requested. Please transmit full name and organization represented to metalsmeetingregistration@cftc.gov, no later than March 18, 2010. Upon arrival on March 25, 2010, all attendees will be required to show valid, government-issued identification before being granted admittance. Unregistered attendees arriving on the day of the meeting will be seated on a space available basis. Overflow seating will be available for additional public viewing via live videocast. Registrants will be notified if attendance capacity has been met.

Issued in Washington, DC, on February 22, 2010 by the Commission.
David Stawick,
Secretary of the Commission.

[FR Doc. 2010-3968 Filed 2-23-10; 11:15 am]

BILLING CODE 6351-01-P